ENVIRONMENTAL PROTECTION AGENCY

[EPA-HQ-OPA-2007-0584; FRL-10003-34-OMS]

Information Collection Request Submitted to OMB for Review and Approval; Comment Request; Oil Pollution Prevention; Spill Prevention, Control, and Countermeasure (SPCC) Plans (Renewal)

AGENCY: Environmental Protection Agency (EPA).

ACTION: Notice.

SUMMARY: The Environmental Protection Agency (EPA) has submitted an information collection request (ICR), Spill Prevention, Control, and Countermeasure (SPCC) Plans (EPA ICR Number 0328.18, OMB Control Number 2050-0021) to the Office of Management and Budget (OMB) for review and approval in accordance with the Paperwork Reduction Act. This is a proposed extension of the ICR, which is currently approved through May 31, 2020. Public comments were previously requested via the Federal Register on September 11, 2019, during a 60-day comment period. This notice allows for an additional 30 days for public comments. A fuller description of the ICR is given below, including its estimated burden and cost to the public. An agency may not conduct or sponsor and a person is not required to respond to a collection of information unless it displays a currently valid OMB control number.

DATES: Comments must be submitted on or before February 7, 2020.

ADDRESSES: Submit your comments, referencing Docket ID No. EPA-HQ-OPA-2007-0584, to (1) EPA online using www.regulations.gov (our preferred method) or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Wendy Hoffman, Regulations Implementation Division, Office of Emergency Management, Mail Code 5104A, Environmental Protection Agency, 1200 Pennsylvania Ave. NW, Washington, DC 20460; telephone number: 202-564-8794; fax number: 202-564-2620; email address: hoffman.wendy@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The authority for EPA's oil pollution prevention requirements is derived from section 311(j)(1)(C) of the Clean Water Act, as amended by the Oil Pollution Act of 1990. EPA's regulation is codified at 40 CFR part 112. An SPCC Plan will help an owner or operator identify the necessary procedures, equipment, and resources to prevent an oil spill and to respond to an oil spill in a timely manner. If implemented effectively, the SPCC Plan is expected to prevent and reduce the impact and severity, of oil spills. Although the owner or operator is the primary data user, EPA may also require the owner or operator to submit data to the Agency in certain situations to ensure facilities comply with the SPCC regulation and to help allocate response resources. The data, which are not generally available elsewhere, can assist State and local governments in several ways, including when information on certain oil discharges must be sent to relevant State and local agencies (section 112.4(a)), and with local emergency preparedness planning efforts. EPA does not require an owner or operator to submit their SPCC Plan but may request the SPCC Plan during a facility inspection or an oil spill incident for review. The SPCC regulation requires the owner or operator to maintain a complete copy of the Plan at the facility if the facility is normally attended at least four hours per day or at the nearest field office if the facility is not so attended. The rule also requires that the Plan be available to the Regional Administrator for on-site review during normal working hours (40 CFR 112.3(e)).

Form Numbers: None.

Respondents/affected entities: Owners or operators of facilities that are required to have a SPCC Plan under the Oil Pollution Prevention regulation (40 CFR part 112).

Respondent's obligation to respond: Mandatory, pursuant to 40 CFR 112.3(e).

Estimated number of respondents: 549,785 (total).

Frequency of response: Facilities must prepare and implement an SPCC Plan before beginning operations, and review, evaluate and update the SPCC Plan every five years.

Total estimated burden: 6,309,523 hours (per year). Burden is defined at 5 CFR 1320.03(b).

Total estimated cost: $857,835,543 (per year), includes $201,002,128 annualized capital or operation & maintenance costs.

Changes in Estimates: The burden hour estimate presented in this ICR renewal has increased by approximately 130,000 hours from the ICR currently approved by OMB. This increase is attributable to the net change in the universe of regulated facilities after accounting for changes in the numbers of existing and newly regulated facilities in the ICR renewal period.

Annual O&M costs are estimated to increase by approximately $17,841,833 compared to the costs currently approved by OMB. These increases are due to the combination of the higher number of regulated facilities projected between 2019 through 2021 compared to the number of facilities between 2016 through 2018 estimated from the ICR currently approved by OMB, as well as higher capital and O&M unit costs due to inflation.

Courtney Kerwin,
Director, Regulatory Support Division.

[FR Doc. 2020-00079 Filed 1-7-20; 8:45 am]

BILLING CODE 6560-50-P